ENVIRONMENTAL PROTECTION AGENCY

[EPA-HQ-OAR-2020-0641; FRL-10379-01-OMS]

Information Collection Request Submitted to OMB for Review and Approval; Comment Request; NESHAP for Iron and Steel Foundries Area Sources (Renewal)

AGENCY: Environmental Protection Agency (EPA).

ACTION: Notice.

SUMMARY: The Environmental Protection Agency (EPA) has submitted an information collection request (ICR), NESHAP for Iron and Steel Foundries Area Sources (EPA ICR Number 2267.08, OMB Control Number 2060-0605), to the Office of Management and Budget (OMB) for review and approval in accordance with the Paperwork Reduction Act. This is a proposed extension of the ICR, which is currently approved through September 31, 2023. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 28, 2022.

ADDRESSES: Submit your comments, referencing Docket ID Number EPA-HQ-OAR-2020-0641 to EPA online using https://www.regulations.gov/ (our preferred method), or by email to docket.oeca@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Iron and Steel Foundries Area Sources (40 CFR part 63, subpart ZZZZZ) apply to both new and existing iron and/or steel foundries that are an area source of hazardous air pollutants (HAP) emissions. There are different requirements for foundries based on size. Existing foundries with an annual metal melt production greater than 20,000 tons and new foundries with an annual melt capacity of 10,000 tons are classified as large foundries. Existing foundries with an annual metal melt capacity of 10,000 tons or less are classified as small foundries. Research and development facilities are not covered by the rule. New facilities include those that commenced either construction, modification or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart ZZZZZ.

Form Numbers: 5900-521.

Respondents/affected entities: Iron and steel foundries.

Respondent's obligation to respond: Mandatory (40 CFR 63, Subpart ZZZZZ).

Estimated number of respondents: 390 (total).

Frequency of response: Initially, occasionally, quarterly, semiannually, and annually.

Total estimated burden: 12,970 hours (per year). Burden is defined at 5 CFR 1320.3(b).

Total estimated cost: $1,540,000 (per year), which includes $0 in annualized capital/startup and/or operation & maintenance costs.

Changes in the estimates: There is an adjustment decrease in the total estimated burden as currently identified in the OMB Inventory of Approved Burdens. This decrease is not due to any program changes. There are no changes in the regulatory requirements and there is no significant industry growth since the most-recently approved ICR was developed. The previous ICR reflected those burdens and costs associated with certain one-time activities including reviewing record keeping systems, adjusting methods, and training employees as a result of the 2020 rule revisions (85 FR 56080). This ICR, by and large, reflects the on-going burden and costs for existing facilities.

Courtney Kerwin,
Director, Regulatory Support Division.

[FR Doc. 2022-23372 Filed 10-26-22; 8:45 am]

BILLING CODE 6560-50-P